DEPARTMENT OF ENERGY

Agency Information Collection Extension

AGENCY: U.S. Department of Energy.

ACTION: Notice and request for comments.

SUMMARY: The Department of Energy (DOE), pursuant to the Paperwork Reduction Act of 1995), intends to establish for three years, an information collection package with the Office of Management and Budget (OMB) concerning a paperwork and reporting burden associated with a requirement for internal audit procedures for management contractors who manage Department of Energy facilities. Reports would consist of an internal audit implementation design, a summary of the previous year's audit activities, and an audit plan for the next fiscal year. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology. Comments submitted in response to this notice will be summarized and/or included in the request for OMB approval of this information collection; they also will become a matter of public record.

DATES: Comments regarding this proposed information collection must be received on or before June 13, 2005. If you anticipate difficulty in submitting comments within that period, contact the person listed below as soon as possible.

ADDRESSES: Written comments may be sent to:

U.S. Department of Energy, Office of Procurement and Assistance Management, Attn: Richard Langston, ME-61, 1000 Independence Ave., SW., Washington, DC 20585 or by fax at (202) 287-1339 or by e-mail at richard.langston@hq.doe.gov

and to

Sharon Evelin, IM-11, U.S. Department of Energy, 19901 Germantown Road, Germantown, Maryland 20874, or by fax at 301-903-9061 or by e-mail at Sharon.evelin@hq.doe.gov.

FOR FURTHER INFORMATION CONTACT: Requests for additional information or copies of the information collection instrument and instructions should be directed to Richard Langston at the address listed in ADDRESSES.

SUPPLEMENTARY INFORMATION: This package contains: (1) OMB No.: 1910-XXXX; (2) Cooperative Audit Requirements; (3) Type of Review: Initial Review; (4) Purpose: To establish internal audit procedures and reporting requirements for management contractors: (5) Respondents: There are 27 management contractor respondants; (6) Estimated Number of Burden Hours: There is an estimated burden of 270 hours.

Statutory Authority: Sections 644 & 646 of the Department of Energy Organization Act, 42 U.S.C. 7254 and 7256.

Issued in Washington, DC on April 4, 2005.
Sharon Evelin,
Director, Records Management Division, Office of the Chief Information Officer.

[FR Doc. 05-7294 Filed 4-11-05; 8:45 am]

BILLING CODE 6450-01-P